DEPARTMENT OF JUSTICE

Drug Enforcement Administration

[Docket No. DEA-684]

Bulk Manufacturer of Controlled Substances Application: Euticals Inc.

ACTION: Notice of application.

DATES: Registered bulk manufacturers of the affected basic class(es), and applicants therefore, may file written comments on or objections to the issuance of the proposed registration on or before September 28, 2020.

ADDRESSES: Written comments should be sent to: Drug Enforcement Administration, Attention: DEA Federal Register Representative/DPW, 8701 Morrissette Drive, Springfield, Virginia 22152.

SUPPLEMENTARY INFORMATION: In accordance with 21 CFR 1301.33(a), this is notice that on June 5, 2020, Euticals Inc., 2460 W Bennett Street, Springfield, Missouri 65807-1229, applied to be registered as a bulk manufacturer of the following basic class(es) of controlled substances:

Controlled substance | Drug code | Schedule
Gamma Hydroxybutyric Acid | 2010 | I
Amphetamine | 1100 | II
Lisdexamfetamine | 1205 | II
Methylphenidate | 1724 | II
Phenylacetone | 8501 | II
Methadone | 9250 | II
Methadone intermediate | 9254 | II
Oripavine | 9330 | II
Tapentadol | 9780 | II

The company plans to manufacture the above-listed controlled substances in bulk for distribution to its customers. No other activities for these drug codes are authorized for this registration.

William T. McDermott,
Assistant Administrator.

[FR Doc. 2020-16401 Filed 7-28-20; 8:45 am]

BILLING CODE P